ENVIRONMENTAL PROTECTION AGENCY

40 CFR Parts 52 and 81

[MA-075-7209b; A-1-FRL-7374-8]

Approval and Promulgation of Air Quality Implementation Plans; Massachusetts; Approval of PM10 State Implementation Plan (SIP) Revisions and Designation of Areas for Air Quality Planning Purposes

AGENCY: Environmental Protection Agency (EPA).

ACTION: Proposed rule.

SUMMARY: The EPA is proposing to approve a State Implementation Plan (SIP) revision submitted by the Commonwealth of Massachusetts. This revision replaces the standard for Total Suspended Particulates (TSP) with a standard for particulate matter with a mean aerodynamic diameter of 10 microns or less (PM10) as the National Ambient Air Quality Standard (NAAQS) for particulates. EPA also proposes to redesignate several areas of Massachusetts from “nonattainment” for TSP to “cannot be classified.” In the Final Rules Section of this Federal Register, EPA is approving Massachusetts's SIP submittal as a direct final rule without prior proposal because the Agency views this as a noncontroversial submittal and anticipates no adverse comments. A detailed rationale for the approval is set forth in the direct final rule. If EPA receives no adverse comments in response to this action, the Agency contemplates no further activity. If EPA receives relevant adverse comments, the Agency will withdraw the direct final rule, and will address all public comments received in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Written comments must be received on or before November 4, 2002.

ADDRESSES: Comments may be mailed to Steven Rapp, Manager, Air Permits Program Unit (mail code CAP), U.S. Environmental Protection Agency, EPA-New England, One Congress Street, Suite 1100, Boston, MA 02114-2023. Copies of the Massachusetts submittal and EPA's technical support document are available for public inspection during normal business hours, by appointment at the Office of Ecosystem Protection, U.S. Environmental Protection Agency, EPA-New England, One Congress Street, 11th floor, Boston, MA and the Division of Air Quality Control, Department of Environmental Protection, One Winter Street, 8th Floor, Boston, MA 02108.

FOR FURTHER INFORMATION CONTACT: Ian D. Cohen, (617) 918-1655.

SUPPLEMENTARY INFORMATION: For additional information, see the direct final rule which is located in the Rules Section of this Federal Register.

Dated: August 29, 2002.
Robert W. Varney,
Regional Administrator.

[FR Doc. 02-25155 Filed 10-3-02; 8:45 am]

BILLING CODE 6560-50-P